DEPARTMENT OF JUSTICE

Notice of Lodging of Consent Decree Under the Clean Air Act and Resource Conservation and Recovery Act

Under 28 CFR 50.7, notice is hereby given that on August 7, 2009, a proposed Consent Decree (“Consent Decree”) in the matter of United States v. Bradford Industries, Civil Action No. 1:09-cv-09-11333, was lodged with the United States District Court for the District of Massachusetts.

In the complaint in this matter, the United States sought injunctive relief and civil penalties against Bradford Industries, Inc. (“Bradford”) for claims arising under the Clean Air Act and the Resource Conservation and Recovery Act, in connection with the operation of the Bradford's operation of its facility located at 75 Rogers Street in Lowell, MA. Under the Consent Decree, Bradford will hire an independent auditor to conduct two environmental compliance audits, and pay a civil penalty of $75,000.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Bradford Industries, Inc., D.J. Ref. No. 90-5-2-1-09314.

The Consent Decree may be examined at the Office of the United States Attorney, 1 Courthouse Way, John Joseph Moakley Courthouse, and at U.S. EPA Region I, Robert F. Kennedy Federal Building, Boston, Massachusetts 02203-2211. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov) fax number (202) 514-0097, phone confirmation number (202) 514-1547. In requesting a copy from the Consent Decree Library, please enclose a check in the amount of $8.00 (25 cents per page reproduction cost) payable to the U.S. Treasury, or, if by e-mail or fax, forward a check in that amount to the Consent Decree Library at the stated address.

Maureen Katz,
Assistant Section Chief, Environmental Enforcement Section, Environment and Natural Resources Division.

[FR Doc. E9-19421 Filed 8-12-09; 8:45 am]

BILLING CODE 4410-15-P